DEPARTMENT OF HEALTH AND HUMAN SERVICES

National Institutes of Health

Notice of Listing of Members of the National Institutes of Health's Senior Executive Service 2015 Performance Review Board (PRB)

The National Institutes of Health (NIH) announces a revised list of the persons who will serve on the National Institutes of Health's Senior Executive Service 2015 Performance Review Board. This action is being taken in accordance with Title 5, U.S.C., Section 4314(c)(4), which requires that members of performance review boards be appointed in a manner to ensure consistency, stability, and objectivity in performance appraisals and requires that notice of the appointment of an individual to serve as a member be published in the Federal Register.

The following persons will serve on the NIH Performance Review Board, which oversees the evaluation of performance appraisals of NIH Senior Executive Service (SES) members:

John McGowan, Chair

Joellen Austin

Michelle Bulls

Michael Gottesman

Camille Hoover

Michael Lauer

Andrea Norris

Lawrence Tabak

Michael Tartakovsky

Timothy Wheeles

For further information about the NIH Performance Review Board, contact the Office of Human Resources, Executive Services Group, National Institutes of Health, Building 2, Room 5E18, Bethesda, Maryland 20892, telephone 301-402-7999 (not a toll-free number).

Dated: October 2, 2015.
Francis S. Collins,
Director, National Institutes of Health.

[FR Doc. 2015-25820 Filed 10-8-15; 8:45 am]

BILLING CODE 4140-01-P